DEPARTMENT OF ENERGY

Federal Energy Regulatory Commission

[Docket Nos. RP00-387-002 and RP00-583-003]

Florida Gas Transmission Company; Notice of Compliance Filing

June 20, 2002.

Take notice that on June 17, 2002, Florida Gas Transmission Company (FGT) tendered for filing as part of its FERC Gas Tariff, Third Revised Volume No. 1, the following tariff sheets:

Fifth Revised Sheet No. 119

Fifth Revised Sheet No. 120A

Original Sheet No. 135B

Fourth Revised Sheet No. 162

Fifth Revised Sheet No. 165A

Sixth Revised Sheet No. 166

First Revised Sheet No. 166A

Fifth Revised Sheet No. 167

Third Revised Sheet No. 175

FGT states On February 9, 2000, the Commission issued its final rule regarding the regulation of interstate natural gas transportation services in Docket Nos. RM98-10-000 and RM98-12-000 (Order No. 637). Among other things, Order No. 637 required pipelines to demonstrate compliance or make conforming tariff changes related to scheduling equality, released capacity, capacity segmentation, pipeline imbalance services, operational flow orders (OFOs) and penalties. The Commission further clarified these requirements in Order Nos. 637-A and 637-B.

On July 14, 2000, FGT submitted pro forma tariff sheets proposing changes to comply with Order No. 637 (July 14, 2000 Filing). Subsequently, on May 16, 2002 the Commission issued its order on FGT's July 14, 2000 Filing. The May 16 Order accepted FGT's proposal on several issues while requiring FGT to make tariff revisions and to file actual tariff sheets within thirty (30) days consistent with the discussion in such order. Additionally, the May 16 Order directed that such tariff sheets not be placed into effect before further order of the Commission.

FGT states that in the instant filing, FGT addresses each of the Commission's directives and is proposing corresponding tariff changes. However, FGT requests that the Commission defer acting on certain tariff sheets related to issues for which FGT has requested rehearing. With respect to those tariff sheets, FGT reserves the right to propose modifications to the tariff provisions proposed herein as a result of future Commission orders resulting from FGT's Request for Rehearing and Clarification of the Commission's May 16 Order. In addition, FGT reserves the right to propose modifications to these tariff sheets as a result of Commission orders which are a result of underlying challenges to Order No. 637 in Interstate Natural Gas Association of America v. F.E.R.C., No. 98-1333, et al., 2002 WL 506850 (D.C. Cir. April 5, 2002).

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-16123 Filed 6-25-02; 8:45 am]

BILLING CODE 6717-01-P